DEPARTMENT OF HEALTH AND HUMAN SERVICES

Administration for Children and Families

Submission for OMB Review; Comment Request

Title: National Survey of Child and Adolescent Well-Being Second Cohort (NSCAW II).

OMB No.: 0970-0202.

Description: The Department of Health and Human Services (HHS) intends to collect follow-up data on a sample of children and families for the National Survey of Child and Adolescent Well-Being (NSCAW). The NSCAW was authorized under Section 427 of the Personal Responsibility and Work Opportunities Reconciliation Act of 1996. The NSCAW is the only source of nationally representative, firsthand information about the functioning and well-being, service needs, and service utilization of children and families who come to the attention of the child welfare system. Information is collected about children's cognitive, social, emotional, behavioral, and adaptive functioning, as well as family and community factors that are likely to influence their functioning. Family service needs and service utilization also are addressed in the data collection.

Selection of the current NSCAW sample and baseline data collection began in 2007 with a final anticipated sample size of 5,700 children. The proposed data collection will allow for follow-up of this sample 18 months post-baseline, and will follow the same format as that used in the baseline round and will employ, with only modest revisions, the same instruments that were used in the previous round. Data from NSCAW are made available to the research community through licensing arrangements from the National Data Archive on Child Abuse and Neglect at Cornell University.

Respondents: Children and their associated permanent or foster caregivers, caseworkers, and teachers.

Annual Burden Estimates
Instrument | Number of respondents | Number of responses per respondent | Average burden hours per response | Total burden hours
Child Interview | 1,424 | 1 | 1.33 | 1,894
Caregiver Interview | 1,424 | 1 | 1.9 | 2,706
Caseworker Interview | 285 | 3 | 1 | 855
Teacher Questionnaire | 855 | 1 | .50 | 428

Estimated Total Annual Burden Hours: 5,882.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollectiori@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget Paperwork Reduction Project, Fax: 202-395-6974, Attn: Desk Officer for the Administration for Children and Families.

Dated: June 17, 2009.
Seth F. Chamberlain,
OPRE Reports Clearance Officer.

[FR Doc. E9-14625 Filed 6-22-09; 8:45 am]

BILLING CODE 4184-01-M